DEPARTMENT OF ENERGY

Federal Energy Regulatory Commission

Combined Notice of Filings #1

Take notice that the Commission received the following electric corporate filings:

Docket Numbers: EC17-59-000.

Applicants: ITC Midwest LLC.

Description: Application Pursuant to Section 203 of the Federal Power Act of ITC Midwest LLC.

Filed Date: 1/3/17.

Accession Number: 20170103-5294.

Comments Due: 5 p.m. ET 1/24/17.

Take notice that the Commission received the following electric rate filings:

Docket Numbers: ER16-914-001.

Applicants: Axpo U.S. LLC.

Description: Notice of Non-Material Change in Status of Axpo U.S. LLC.

Filed Date: 1/3/17.

Accession Number: 20170103-5250.

Comments Due: 5 p.m. ET 1/24/17.

Docket Numbers: ER17-739-000.

Applicants: Southwest Power Pool, Inc.

Description: § 205(d) Rate Filing: 3101R1 Heartland Consumers Power District NITSA and NOA to be effective 12/1/2016.

Filed Date: 1/3/17.

Accession Number: 20170103-5214.

Comments Due: 5 p.m. ET 1/24/17.

Docket Numbers: ER17-740-000.

Applicants: Southern California Edison Company.

Description: § 205(d) Rate Filing: Amended SGIA Pearblossom Solar Project to be effective 12/16/2015.

Filed Date: 1/4/17.

Accession Number: 20170104-5034.

Comments Due: 5 p.m. ET 1/25/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 4, 2017.
Nathaniel J. Davis, Sr.,
Deputy Secretary.

[FR Doc. 2017-00387 Filed 1-10-17; 8:45 am]

BILLING CODE 6717-01-P